DEPARTMENT OF JUSTICE

[OMB Number 1122-NEW]

Agency Information Collection Activities; New Collection: Certification of Compliance With the Confidentiality and Privacy Provisions of the Violence Against Women Act, as Amended

ACTION: 30-Day Notice.

The Department of Justice, Office on Violence Against Women (OVW) will be submitting the following information collection request to the Office of Management and Budget (OMB) for review and approval in accordance with the Paperwork Reduction Act of 1995. The proposed information collection is published to obtain comments from the public and affected agencies. This proposed information collection was previously published in the Federal Register Volume 78, page 54275 on September 3, 2013, allowing for a 60 day comment period.

The purpose of this notice is to allow for an additional 30 days for public comment until December 2, 2013. This process is conducted in accordance with 5 CFR 1320.10.

Written comments and/or suggestions regarding the items contained in this notice, especially the estimated public burden and associated response time, should be directed to The Office of Management and Budget, Office of Information and Regulatory Affairs, Attention Department of Justice Desk Officer, Washington, DC 20503. Additionally, comments may be submitted to OMB via facsimile to (202) 395-7285.

Written comments and suggestions from the public and affected agencies concerning the proposed collection of information are encouraged. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: New collection.

(2) Title of the Form/Collection: Certification of Compliance with the Confidentiality and Privacy Provisions of the Violence Against Women Act, as Amended.

(3) Agency form number, if any, and the applicable component of the Department of Justice sponsoring the collection: Form Number: 1122-XXXX. U.S. Department of Justice, Office on Violence Against Women.

(4) Affected public who will be asked or required to respond, as well as a brief abstract:

Primary: The affected public includes applicants to OVW grant programs authorized under the Violence Against Women Act of 1994 and reauthorized and amended by the Violence Against Women Act of 2000, the Violence Against Women Act of 2005 and the Violence Against Women Act of 2013. These include States, territories, Tribes or units of local government; State, territorial, tribal or unit of local governmental entities; institutions of higher education including colleges and universities; tribal organizations; Federal, State, tribal, territorial or local courts or court-based programs; State sexual assault coalitions, State domestic violence coalitions; territorial domestic violence or sexual assault coalitions; tribal coalition; tribal organizations; community-based organizations and non-profit, nongovernmental organizations.

Under section 40002(b)(2) of the Violence Against Women Act, as amended (42 U.S.C. 13925(b)(2)), grantees and subgrantees with funding from OVW are required to meet the specific terms with regard to nondisclosure of confidential or private information and to document their compliance. By signature on certification form, applicants for grants from OVW are agreeing that, if awarded funds, they will comply with this provision, and will mandate that subgrantees, if any, comply with this provision, and will create and maintain documentation of compliance, such as policies and procedures for release of victim information, and will mandate that subgrantees, if any, will do so as well.

(5) An estimate of the total number of respondents and the amount of time estimated for an average respondent to respond/reply: It is estimated that information will be collect annually from the approximately 1800 respondents (applicants to the OVW grant programs) less than one hour to complete a Certification of Compliance with the Confidentiality and Privacy Provisions of the Violence Against Women Act, as Amended.

(6) An estimate of the total public burden (in hours) associated with the collection:The total annual hour burden to complete the Certification is less than 1800 hours.

If additional information is required contact: Jerri Murray, Department Clearance Officer, United States Department of Justice, Justice Management Division, Policy and Planning Staff, Two Constitution Square, 145 N Street NE., Room 1407B, Washington, DC 20530.

Jerri Murray,
Department Clearance Officer, U.S. Department of Justice.

[FR Doc. 2013-26109 Filed 10-31-13; 8:45 am]

BILLING CODE 4410-FX-P